DEPARTMENT OF TRANSPORTATION

Pipeline and Hazardous Materials Safety Administration

[Docket ID PHMSA-2007-0056]

Pipeline Safety: Agency Information Collection Activities: Notice of Request for Extension of Currently Approved Information Collection

AGENCY: Pipeline and Hazardous Materials Safety Administration (PHMSA), DOT.

ACTION: Notice and request for comments.

SUMMARY: This notice invites public comments about PHMSA's intention to request the Office of Management and Budget's (OMB) approval for renewal of four existing information collections. These information collections are described below.

DATES: Submit comments on or before July 21, 2008.

ADDRESSES: Comments should reference Docket No. PHMSA-RSPA-2004-19854 and may be submitted in the following ways:

• E-Gov Web Site: http://www.regulations.gov. This site allows the public to enter comments on any Federal Register notice issued by any agency.

• Fax: 1-202-493-2251.

• Mail: DOT Docket Operations Facility (M-30), U.S. Department of Transportation, West Building, 1200 New Jersey Avenue, SE., Washington, DC 20590.

• Hand Delivery: DOT Docket Operations Facility, U.S. Department of Transportation, West Building, Room W12-140, 1200 New Jersey Avenue, SE., Washington, DC 20590 between 9 a.m. and 5 p.m., Monday through Friday, except Federal holidays.

Instructions: In the E-Gov Web site: http://www.regulations.gov, under “Search Documents” select “Pipeline and Hazardous Materials Safety Administration.” Next, select “Notices,” and then click “Submit.” Select this notice by clicking on the docket number listed above. Submit your comment by clicking the yellow bubble in the right column then following the instructions.

Identify docket ID PHMSA-2007-0056 at the beginning of your comments. For comments by mail, please provide two copies. To receive PHMSA's confirmation receipt, include a self-addressed stamped postcard. Internet users may access all comments at http://www.regulations.gov, by following the steps above.

Note: PHMSA will post all comments without changes or edits to http://www.regulations.gov including any personal information provided.

Privacy Act Statement

Anyone can search the electronic form of all comments received in response to any of our dockets by the name of the individual submitting the comment (or signing the comment, if submitted on behalf of an association, business, labor union, etc.). DOT's complete Privacy Act Statement was published in the Federal Register on April 11, 2000 (65 FR 19477).

FOR FURTHER INFORMATION CONTACT: Barbara Betsock, U.S. Department of Transportation, Office of Pipeline Safety (PHP-30), Pipeline and Hazardous Materials Safety Administration, 1200 New Jersey Avenue, SE., East Building, 2nd Floor, Washington, DC 20590-0001, Telephone (202) 366-4595.

SUPPLEMENTARY INFORMATION: Section 1320.8(d), Title 5, Code of Federal Regulations requires PHMSA to provide interested members of the public and affected agencies an opportunity to comment on information collection and recordkeeping requests. This notice identifies information collection requests that PHMSA will be submitting to OMB for renewal and extension. These information collections are contained in the pipeline safety regulations, 49 CFR parts 190-199. PHMSA has revised burden estimates, where appropriate, to reflect current reporting levels or adjustments based on changes in proposed or final rules published since the information collections were last approved. The following information is provided for each information collection: (1) Title of the information collection; (2) OMB control number; (3) abstract of the information collection activity; (4) description of affected public; (5) estimate of total annual reporting and recordkeeping burden; and (6) frequency of collection. PHMSA will request a three-year term of approval for each information collection activity.

PHMSA requests comments on the following information collections:

1. Title: Pipeline Safety: Excess Flow Valves—Customer Notification.

OMB Control Number: 2137-0593.

Type of Request: Renewal of a currently approved information collection.

Abstract: Pipeline operators are required to provide notifications about excess flow valves to service line customers as described in 49 CFR 192.383. Upon request, an operator must make documentation of compliance available to PHMSA or the appropriate State regulatory agency.

Estimated number of respondents: 900,000.

Estimated annual burden hours: 18,000 hours.

Frequency of collection: On occasion.

2. Title: Pipeline Safety: Customer-Owned Service Lines.

OMB Control Number: 2137-0594.

Type of Request: Renewal of a currently approved information collection.

Abstract: Operators of gas service lines who do not maintain certain buried piping of their customers must provide notification about maintenance to those customers (49 CFR 192.16). Upon request, an operator must make documentation of compliance available to PHMSA or the appropriate State regulatory agency.

Estimated number of respondents: 550,000.

Estimated annual burden hours: 9,167 hours.

Frequency of collection: On occasion.

3. Title: Pipeline Safety: Qualification of Pipeline Safety, Training.

OMB Control Number: 2137-0600.

Type of Request: Renewal of a currently approved information collection.

Abstract: Pipeline operators are required to have continuing programs for qualifying and training personnel performing safety-sensitive functions on pipelines. (49 CFR part 192, subpart N and 49 CFR part 195, subpart G. Operators must maintain records, make reports, and provide information to PHMSA and State pipeline safety agencies concerning these programs. The information aids Federal and State pipeline safety inspectors in conducting compliance inspections and investigating incidents.

Estimated number of respondents: 22,300.

Estimated annual burden hours: 466,667 hours.

Frequency of collection: On occasion.

4. Title: Pipeline Safety Report of Abandoned Underwater Pipelines.

OMB Control Number: 2137-0601.

Type of Request: Renewal of a currently approved information collection.

Abstract: Pipeline operators are required to report certain information about abandoned underwater pipelines to PHMSA. The information aids Federal and State pipeline safety inspectors in conducting compliance inspections and investigating incidents.

Estimated number of respondents: 10.

Estimated annual burden hours: 60 hours.

Frequency of collection: On occasion.

Issued in Washington, DC on May 19, 2008.
Barbara Betsock,
Acting Director of Regulations.

[FR Doc. E8-11540 Filed 5-21-08; 8:45 am]

BILLING CODE 4910-60-P